DEPARTMENT OF COMMERCE

Foreign-Trade Zones Board

[B-57-2013]

Foreign-Trade Zone (FTZ) 21—Dorchester County, South Carolina; Notification of Proposed Production Activity; AGFA Materials Corporation (Photographic Film Cutting); Goose Creek, South Carolina

The South Carolina State Ports Authority, grantee of FTZ 21, submitted a notification of proposed production activity to the FTZ Board on behalf of AGFA Materials Corporation (AGFA), located in Goose Creek, South Carolina. The notification conforming to the requirements of the regulations of the FTZ Board (15 CFR 400.22) was received on May 17, 2013.

The AGFA facility is located within Site 16 of FTZ 21. The facility is used for the cutting of photographic film to specific sizes or master rolls for medical images, aerial photography, and non-destructive testing. Pursuant to 15 CFR 400.14(b), FTZ activity would be limited to the specific foreign-status materials and components and specific finished products listed in the submitted notification (as described below) and subsequently authorized by the FTZ Board.

Production under FTZ procedures could exempt AGFA from customs duty payments on the foreign status film used in export production. On its domestic sales, AGFA would be able to choose the duty rates during customs entry procedures that apply to its finished cut film (3.7%) and associated scrap and waste (free) for the foreign-status film (3.7%). Customs duties also could possibly be deferred or reduced on foreign status production equipment.

Public comment is invited from interested parties. Submissions shall be addressed to the Board's Executive Secretary at the address below. The closing period for their receipt is July 22, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Diane Finver at Diane.Finver@trade.gov (202) 482-1367.

Dated: June 4, 2013.
Andrew McGilvray,
Executive Secretary.

[FR Doc. 2013-13705 Filed 6-7-13; 8:45 am]

BILLING CODE 3510-DS-P